DEPARTMENT OF COMMERCE

National Oceanic and Atmospheric Administration

[I.D. 111302B]

Proposed Information Collection; Comment Request; Vessel Monitoring System for Atlantic Highly Migratory Species

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before January 17, 2003.

ADDRESSES: Direct all written comments to Diana Hynek, Departmental Paperwork Clearance Officer, Department of Commerce, Room 6625, 14th and Constitution Avenue NW, Washington DC 20230 (or via Internet at dHynek@doc.gov).

FOR FURTHER INFORMATION CONTACT: Requests for additional information or copies of the information collection instrument and instructions should be directed to Chris Rilling, Highly Migratory Species Management Division (F/SF1), Office of Sustainable Fisheries, National Marine Fisheries Service, 1315 East-West Highway, Silver Spring, MD 20910 (phone 301-713-2347).

SUPPLEMENTARY INFORMATION:

I. Abstract

Under the proposed information requirement, vessels fishing for Atlantic highly migratory species (HMS) with pelagic longline gear on board would be required to install and operate a vessel monitoring system (VMS). On May 28, 1999, the National Marine Fisheries Service (NMFS) issued a regulation, 50 CFR 635.69(a), requiring all commercial pelagic longline vessels fishing for Atlantic HMS to install a NMFS-approved VMS.

The Bluewater Fisherman’s Association filed a lawsuit challenging the VMS requirement, and the U.S. District Court for the District of Columbia remanded the regulation to the Secretary of Commerce for further consideration. On August 29, 2001 NMFS submitted a reconsideration memorandum to the court analyzing alternatives to and reaffirming the need for fleetwide implementation of VMS in the Atlantic pelagic longline fishery. On October 15, 2002, the U.S. District Court for the District of Columbia issued a final order that denied plaintiff’s objections to the VMS regulation. Based on this ruling, NMFS is seeking to reinstate OMB approval for this information collection as required by the Paperwork Reduction Act.

If approved, automatic position reports would be submitted on an hourly basis whenever the vessel is at sea. The information would aid in the enforcement of fishery regulations and could allow for delayed offloading after a closure.

Vessel operators would also be required to follow an equipment installation checklist and submit it to NMFS. The checklist provides information on the hardware and communications service selected by each vessel. NMFS would use the returned checklists to ensure that position reports are received and to aid NMFS in troubleshooting problems.

II. Method of Collection

Checklists would be submitted in paper form. Position reports would be automatically sent electronically by the vessel monitoring system units.

III. Data

OMB Number: 0648-0372.

Form Number: None.

Type of Review: Regular submission.

Affected Public: Business and other for-profit organizations.

Estimated Number of Respondents: 320.

Estimated Time Per Response: 4 hours for installation of equipment; 2 hours for annual maintenance of the equipment (beginning in the second year); 0.033 seconds per automated position report from the automated equipment; and 5 minutes to complete and return a one-time installation checklist.

Estimated Total Annual Burden Hours: 1,101.

Estimated Total Annual Cost to Public: $654,423.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 8, 2002.
Gwellnar Banks,
Management Analyst, Office of the Chief Information Officer.

[FR Doc. 02-29182 Filed 11-15-02; 8:45 am]

BILLING CODE 3510-22-S